DEPARTMENT OF AGRICULTURE

Animal and Plant Health Inspection Service

[Docket No. APHIS-2008-0066]

Notice of Decision To Issue Permits for the Importation of Guavas From Mexico Into the United States

AGENCY: Animal and Plant Health Inspection Service, USDA.

ACTION: Notice.

SUMMARY: We are advising the public of our decision to begin issuing permits for the importation into the United States of fresh guava fruit from Mexico. Based on the findings of a pest risk analysis, which we made available to the public for review and comment through a previous notice, we believe that the application of one or more designated phytosanitary measures will be sufficient to mitigate the risks of introducing or disseminating plant pests or noxious weeds via the importation of guavas from Mexico.

DATES: Effective Date: October 14, 2008.

FOR FURTHER INFORMATION CONTACT: Mr. David B. Lamb, Import Specialist, Commodity Import Analysis and Operations, PPQ, APHIS, 4700 River Road Unit 133, Riverdale, MD 20737-1231; (301) 734-8758.

SUPPLEMENTARY INFORMATION:

Background

Under the regulations in “Subpart—Fruits and Vegetables” (7 CFR 319.56 through 319.56-47, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis, can be safely imported subject to one or more of the designated phytosanitary measures listed in paragraph (b) of that section. Under that process, APHIS publishes a notice in the Federal Register announcing the availability of the pest risk analysis that evaluates the risks associated with the importation of a particular fruit or vegetable. Following the close of the 60-day comment period, APHIS may begin issuing permits for importation of the fruit or vegetable subject to the identified designated measures if: (1) No comments were received on the pest risk analysis; (2) the comments on the pest risk analysis revealed that no changes to the pest risk analysis were necessary; or (3) changes to the pest risk analysis were made in response to public comments, but the changes did not affect the overall conclusions of the analysis and the Administrator's determination of risk.

In accordance with that process, we published a notice ¹ in the Federal Register on June 26, 2008 (73 FR 36296-36297, Docket No. APHIS-2008-0066), in which we announced the availability, for review and comment, of a pest risk analysis that evaluates the risks associated with the importation into the United States of fresh guava fruit from Mexico. We solicited comments on the notice for 60 days ending on August 25, 2008. We received seven comments by that date, from guava producers, a State department of agriculture, and the Mexican department of agriculture. Six of the commenters supported the importation of guavas from Mexico under the conditions described in the risk management document. One commenter raised concerns about those conditions. These concerns are addressed in an appendix to the pest risk analysis. We have made a change to the pest risk analysis in response to this comment, but the change did not affect the overall conclusions of the analysis and the Administrator's determination of risk. The amended portion of the pest risk analysis and the appendix may be viewed on the Regulations.gov Web site or in our reading room (see ADDRESSES above for instructions for accessing Regulations.gov and information on the location and hours of the reading room).

¹ To view the notice, the pest risk analysis, the risk management analysis, and the comments we received, go to http://www.regulations.gov/fdmspublic/component/main?main=DocketDetail&d=APHIS-2008-0066.

Therefore, in accordance with the regulations in § 319.56-4(c)(2)(ii), we are announcing our decision to begin issuing permits for the importation into the United States of guavas from Mexico subject to the following phytosanitary measures:

• The guavas must be irradiated with a minimum absorbed dose of 400 gray.

• Each consignment of guavas must be inspected by the national plant protection organization (NPPO) of Mexico and accompanied by a phytosanitary certificate issued by the NPPO of Mexico. The phytosanitary certificate must document that the consignment received the required irradiation treatment. The phytosanitary certificate must also contain an additional declaration that states:

The fruit in this shipment was treated by irradiation with a minimum absorbed dose of 400 Gy and inspected and found free of Oligonychus biharensis, Oligonychus psidium, Mycovellosiella psidii, Pestalotiopsis psidii, and Sphaceloma psidii.

• The guavas may be imported into the United States in commercial consignments only.

These conditions will be listed in the fruits and vegetables manual (available at http://www.aphis.usda.gov/import_export/plants/manuals/ports/downloads/fv.pdf). In addition to those specific measures, guavas from Mexico will be subject to the general requirements listed in § 319.56-3 that are applicable to the importation of all fruits and vegetables.

Authority: 7 U.S.C. 450, 7701-7772, and 7781-7786; 21 U.S.C. 136 and 136a; 7 CFR 2.22, 2.80, and 371.3.

Done in Washington, DC, this 8th day of October 2008.
Cindy Smith,
Administrator, Animal and Plant Health Inspection Service.

[FR Doc. E8-24334 Filed 10-10-08; 8:45 am]

BILLING CODE 3410-34-P